DEPARTMENT OF ENERGY

Federal Energy Regulatory Commission

Notice of Effectiveness of Exempt Wholesale Generator Status

NRG Chalk Point CT LLC | EG16-1-000
CID Solar, LLC | EG16-2-000
Cottonwood Solar, LLC | EG16-3-000
Greenidge Generation LLC | EG16-4-000
Seville Solar Two, LLC | EG16-5-000
Fair Wind Power Partners, LLC | EG16-6-000
Los Vientos Windpower IV, LLC | EG16-7-000
Los Vientos Windpower V, LLC | EG16-8-000
Yuma Cogeneration Associates | EG16-9-000
Sandstone Solar LLC | EG16-10-000
Carousel Wind Farm, LLC | EG16-12-000
Marshall Wind Energy LLC | EG16-13-000
Utah Red Hills Renewable Park, LLC | EG16-14-000

Take notice that during the month of December 2015, the status of the above-captioned entities as Exempt Wholesale Generators became effective by operation of the Commission's regulations. 18 CFR § 366.7(a).

Dated: January 6, 2016.
Nathaniel J. Davis, Sr.,
Deputy Secretary.

[FR Doc. 2016-00399 Filed 1-11-16; 8:45 am]

BILLING CODE 6717-01-P